POSTAL SERVICE

39 CFR Part 111

Permissible Barcode Symbology for Parcels Eligible for the Barcode Discount

AGENCY: Postal Service.

ACTION: Final rule with request for comments.

SUMMARY: We are amending the information published in the Federal Register on July 14, 1998 [63 FR 37946], that announced new requirements for Package Services parcels eligible for the barcode discount. The barcode discount was extended to Standard Mail® machinable parcels in the Federal Register on December 15, 2000 [65 FR 78537] that announced the R2000-1 rate case. The standards implementing the new requirements were subsequently published in Postal Bulletin 22122 (2-19-04, pages 6-8). The Postal Bulletin notice allowed for the optional use of the human-readable presentation of the ZIP Code ™. This final rule modifies the standards to now require mailers to include the human-readable equivalent of the ZIP Code with all barcodes.

DATES: Effective May 6, 2004. Submit comments on or before May 20, 2004.

ADDRESSES: Mail or deliver comments to the Manager, Mailing Standards, Attn: Obataiye B. Akinwole, U.S. Postal Service, 1735 N Lynn Street, Room 3025, Arlington, VA 22209-6038. Written comments may be submitted also by facsimile transmission to (703) 292-4058. Copies of all written comments will be available for inspection and photocopying between 9 a.m. and 4 p.m., Monday through Friday, at Postal Service Headquarters Library, 11th Floor North, 475 L'Enfant Plaza SW., Washington, DC.

FOR FURTHER INFORMATION CONTACT: Obataiye B. Akinwole at (703) 292-3643.

SUPPLEMENTARY INFORMATION: On July 14, 1998, the Postal Service published in the Federal Register [63 FR 37946] a final rule setting forth Domestic Mail Manual (DMM ) standards for Package Services barcodes. The DMM standards were subsequently published in Postal Bulletin 22122 (2-19-04, pages 6-8). Under the previous rule, the human-readable equivalent of the ZIP Code information was optional. Under the new rule, mailers are required to include the human-readable equivalent of the ZIP Code information to be eligible for the barcode discount. No other changes are made to the standards in DMM C850.

Using the UCC/EAN Code 128 barcode symbology will benefit mailers in a number of ways:

• Increased accuracy and improved service—reduces manual processing of parcels.

• Variable length—compact, accurate, and reliable.

• Easy data capture capabilities—international availability.

In order to reduce the looping of mail in processing, this rule requires the printing of the applicable AI and ZIP Code or ZIP+4® code whenever a barcode is printed.

List of Subjects in 39 CFR Part 111

Administrative practice and procedure, Postal Service.

For the reasons noted above, the Postal Service adopts the following changes to the Domestic Mail Manual, which is incorporated by reference in the Code of Federal Regulations (CFR). See 39 CFR part 111.

PART 111—[AMENDED]

1. The authority citation for 39 CFR Part 111 continues to read as follows:

Authority: 5 U.S.C. 552(a); 39 U.S.C. 101, 401, 403, 404, 3001-3011, 3201-3219, 3403-3406, 3621, 3626, 5001.

2. Revise the Domestic Mail Manual (DMM) as follows:

Domestic Mail Manual (DMM)

* * * * *

C Characteristics and Content

* * * * *

C800 Automation-Compatible Mail

* * * * *

C850 Barcoding Standards for Parcels

* * * * *

2.0 Barcode Characteristics

* * * * *

2.5 Human-Readable Information

The human-readable information on the barcode must conform to one of the following options:

[Revise item a to read as follows:]

a. If the barcode is printed on the delivery address label and in close proximity to the address, the human-readable equivalent of the ZIP Code or ZIP+4 code (omitting the AI “420”) encoded in the barcode preceded by the word “ZIP” must be printed between ⅛ inch and ½ inch below the barcode in 10-point or larger bold, sans serif type. This standard applies to barcodes printed under 1.1 or 1.2a, 1.2b, and 1.3.

* * * * *

[Revise item c to read as follows:]

c. For barcodes printed under 1.2 or 1.3, the human-readable presentation of the concatenated barcode must include the AI “91” and the full tracking identification number as text, the AI “420,” and the ZIP Code or ZIP+4 code. The AI “420” and ZIP Code information must be parsed separately from the main body of the barcode text (e.g., 420 99999 9101 2345 6789 1234 5678).

* * * * *

We will publish an appropriate amendment to 39 CFR part 111 to reflect these changes.

Neva R. Watson,
Attorney, Legislative.

[FR Doc. 04-10154 Filed 5-5-04; 8:45 am]

BILLING CODE 7710-12-P